DEPARTMENT OF COMMERCE

National Oceanic and Atmospheric Administration

50 CFR Part 648

[I.D. 032907A]

RIN 0648-AS22

Magnuson-Stevens Fishery Conservation and Management Act Provisions; Fisheries of the Northeastern United States; Summer Flounder, Scup, and Black Sea Bass Fisheries; Amendment 14 to the Summer Flounder, Scup, and Black Sea Bass Fishery Management Plan

AGENCY: National Marine Fisheries Service (NMFS), National Oceanic and Atmospheric Administration (NOAA), Commerce.

ACTION: Notice of Availability of proposed fishery management plan amendment; request for comments.

SUMMARY: NMFS announces that the Mid-Atlantic Fishery Management Council (Council) has submitted Amendment 14 to the Summer Flounder, Scup, and Black Sea Bass Fishery Management Plan (FMP) (Amendment 14), incorporating the draft Environmental Assessment (EA), preliminary Regulatory Impact Review (RIR), and the Initial Regulatory Flexibility Analysis (IRFA), for review by the Secretary of Commerce and is requesting comments from the public.

The proposed measures include a plan to rebuild the scup stock from an overfished condition to the level associated with maximum sustainable yield, as required by the Magnuson-Stevens Fishery Conservation and Management Act (Magnuson-Stevens Act). The proposed action also includes an administrative change that would allow changes to the scup Gear Restricted Areas (GRAs) through a framework adjustment to the FMP. The intended effect of this change is to improve the timing of developing and implementing modifications to the GRAs.

DATES: Comments must be received on or before June 11, 2007.

ADDRESSES: You may submit comments by any of the following methods:

• E-mail: FSBAmendment14NOA@noaa.gov. Include in the subject line the following identifier: “Comments on Amendment 14 to the Summer Flounder, Scup, and Black Sea Bass FMP.”

• Federal e-rulemaking portal: http:/www.regulations.gov

• Mail: Patricia A. Kurkul, Regional Administrator, NMFS, Northeast Regional Office, One Blackburn Drive, Gloucester, MA 01930. Mark the outside of the envelope: “Comments on Amendment 14 to the Summer Flounder, Scup, and Black Sea Bass FMP.”

• Fax: (978) 281-9135

Copies of Amendment 14 and of the draft Environmental Assessment, preliminary Regulatory Impact Review, and Initial Regulatory Flexibility Analysis (EA/RIR/IRFA) are available from Daniel T. Furlong, Executive Director, Mid-Atlantic Fishery Management Council, Room 2115, Federal Building, 300 South New Street, Dover, DE 19901-6790. The EA/RIR/IRFA is also accessible via the Internet at http://www.nero.noaa.gov.

FOR FURTHER INFORMATION CONTACT: Michael P. Ruccio, Fishery Policy Analyst, 978-281-9104.

SUPPLEMENTARY INFORMATION: The Magnuson-Stevens Act requires that each Regional Fishery Management Council submit any FMP amendment it prepares to NMFS for review and approval, disapproval, or partial approval. The Magnuson-Stevens Act also requires that NMFS, upon receiving an FMP amendment, immediately publish a notice in the Federal Register that the amendment is available for public review and comment. If approved by NMFS, this amendment would implement a rebuilding program to increase the scup stock to the level associated with maximum sustainable yield (Bmsy). The amendment would also effect an administrative change to the regulations on framework adjustments.

Background

In August 2005, NMFS notified the Council that the scup stock had officially been designated as overfished as defined by the Magnuson-Stevens Act. Specifically, the 3-year Northeast Fishery Science Center (NEFSC) spawning stock biomass (SSB) value for scup had declined below the minimum biomass threshold. In response, the Council began development of Amendment 14 to the FMP in February 2006 to rebuild the scup stock to the biomass target.

This action proposes scup rebuilding program alternatives which would, within at least 10 years, increase the scup stock to the target biomass level (i.e., achieve stock rebuilding) as required by the Magnuson-Stevens Act. In addition, this action proposes a single administrative change to the procedures for modifying the GRAs. Currently, GRAs are modified though the annual specification process. This action proposes to change the procedures so that GRAs may be modified through framework adjustments to the FMP.

Public comments are being solicited on Amendment 14 and its incorporated documents through the end of the comment period stated in this notice of availability. A proposed rule that would implement Amendment 14 will be published in the Federal Register for public comment, following NMFS's evaluation of the proposed rule under the procedures of the Magnuson-Stevens Act. Public comments on the proposed rule must be received by the end of the comment period provided in this notice of availability of Amendment 14 to be considered in the approval/disapproval decision on the amendment. All comments received by June 11, 2007, whether specifically directed to Amendment 14 or the proposed rule will be considered in the approval/disapproval decision on Amendment 14. Comments received after that date will not be considered in the decision to approve or disapprove Amendment 14. To be considered, comments must be received by close of business on the last day of the comment period; that does not mean postmarked or otherwise transmitted by that date.

Authority: 16 U.S.C. 1801 et seq.

Dated: April 5, 2007.
James P. Burgess,
Acting Director, Office of Sustainable Fisheries, National Marine Fisheries.

[FR Doc. E7-6881 Filed 4-10-07; 8:45 am]

BILLING CODE 3510-22-S